DEPARTMENT OF ENERGY

Federal Energy Regulatory Commission

Combined Notice of Filings #2

Take notice that the Commission received the following electric rate filings:

Docket Numbers: ER13-395-003.

Applicants: Safe Harbor Water Power Corporation.

Description: Compliance filing per 35.37: Safe Harbor MBR Tariff Filing to be effective 7/1/2014.

Filed Date: 2/3/15.

Accession Number: 20150203-5129.

Comments Due: 5 p.m. ET 2/24/15.

Docket Numbers: ER15-876-001.

Applicants: Malaga Power, LLC.

Description: Tariff Amendment per 35.17(b): Supplement to MBR Application to be effective 2/17/2015.

Filed Date: 2/3/15.

Accession Number: 20150203-5096.

Comments Due: 5 p.m. ET 2/24/15.

Docket Numbers: ER15-964-000.

Applicants: Southwest Power Pool, Inc.

Description: Section 205(d) rate filing per 35.13(a)(2)(iii): City Utilities of Springfield Formula Rate Filing to be effective 4/1/2015.

Filed Date: 2/3/15.

Accession Number: 20150203-5118.

Comments Due: 5 p.m. ET 2/24/15.

Docket Numbers: ER15-965-000.

Applicants: PPL Colstrip I, LLC.

Description: Tariff Withdrawal per 35.15: Notice of Cancellation of Market-Based Rate Tariff to be effective 2/4/2015.

Filed Date: 2/3/15.

Accession Number: 20150203-5131.

Comments Due: 5 p.m. ET 2/24/15.

Docket Numbers: ER15-966-000.

Applicants: PPL Colstrip II, LLC.

Description: Tariff Withdrawal per 35.15: Notice of Cancellation of Market-Based Rate Tariff to be effective 2/4/2015.

Filed Date: 2/3/15.

Accession Number: 20150203-5138.

Comments Due: 5 p.m. ET 2/24/15.

Docket Numbers: ER15-967-000.

Applicants: PJM Interconnection, L.L.C., Old Dominion Electric Cooperative.

Description: Section 205(d) rate filing per 35.13(a)(2)(iii): Revised Service Agreement No. 3746 among PJM and ODEC to be effective 2/1/2015.

Filed Date: 2/3/15.

Accession Number: 20150203-5146.

Comments Due: 5 p.m. ET 2/24/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 3, 2015.
Nathaniel J. Davis, Sr.,
Deputy Secretary.

[FR Doc. 2015-02634 Filed 2-9-15; 8:45 am]

BILLING CODE 6717-01-P